DEPARTMENT OF JUSTICE

[OMB Number 1121-0184]

Agency Information Collection Activities; Proposed eCollection eComments Requested; Revision of a Currently Approved Collection: 2022 School Crime Supplement (SCS) to the National Crime Victimization Survey (NCVS)

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until August 31, 2021.

FOR FURTHER INFORMATION CONTACT: If you have comments especially on the estimated public burden or associated response time, suggestions, or need a copy of the proposed information collection instrument with instructions or additional information, please contact Rachel Morgan (email: Rachel.Morgan@usdoj.gov; telephone: 202-616-1707) or Alexandra Thompson (email: Alexandra.Thompson@usdoj.gov; telephone: 202-598-2032), Bureau of Justice Statistics, 810 Seventh Street NW, Washington, DC 20531.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Revision of a currently approved collection.

2. Title of the Form/Collection: 2022 School Crime Supplement (SCS) to the National Crime Victimization Survey (NCVS).

3. Agency form number, if any, and the applicable component of the Department of Justice sponsoring the collection: The form number for the questionnaire is SCS-1. The applicable component within the Department of Justice is the Bureau of Justice Statistics (BJS), in the Office of Justice Programs.

4. Affected public who will be asked or required to respond, as well as a brief abstract: The survey will be administered to persons ages 12 to 18 in NCVS sample households in the United States from January through June 2022. The SCS collects, analyzes, publishes, and disseminates statistics on the students' victimization, perceptions of school environment, and safety at school.

5. An estimate of the total number of respondents and the amount of time estimated for an average respondent to respond: An estimate of the total number of respondents is 7,010 persons ages 12 to 18. Of the 7,010 SCS respondents, 87% or 6,071 are expected to complete the long SCS interview (entire SCS questionnaire) which takes an estimated 17 minutes (0.28 hours) to complete. The remaining 13% or 939 SCS respondents are expected to complete the short interview (i.e. will be screened out for not being in school), which takes an estimated 2 minutes (0.03 hours) to complete. There are an estimated 1,728 annual burden hours associated with this collection. Respondents will be asked to respond to this survey only once during the six-month period. The burden estimates are based on data from the prior administration of the SCS.

6. An estimate of the total public burden (in hours) associated with the collection: There are an estimated 1,728 total burden hours associated with this information collection.

If additional information is required, contact: Melody Braswell, Department Clearance Officer, United States Department of Justice, Justice Management Division, Policy and Planning Staff, Two Constitution Square, 145 N Street NE, 3E.405A, Washington, DC 20530.

Dated: June 29, 2021.
Melody Braswell,
Department Clearance Officer for PRA, U.S. Department of Justice.

[FR Doc. 2021-14236 Filed 7-1-21; 8:45 am]

BILLING CODE 4410-18-P